DEPARTMENT OF DEFENSE

Office of the Secretary

Meeting of the Secretary of Defense's Defense Advisory Board for Employer Support of the Guard and Reserve (DAB-ESGR)

ACTION: Notice of open meeting.

SUMMARY: This notice announces a meeting of the DAB-ESGR. This meeting will focus on the status of DoD actions and recommendations from previous DAB meetings and relevant discussions of DoD planning guidance for future mobilizations and targeted communications to employers. This meeting is open to the public.

DATES: 0830-1530, September 22, 2006.

Location: Assistant Secretary of Defense for Reserve Affairs Conference Room 2E219, the Pentagon.

FOR FURTHER INFORMATION CONTACT: Interested attendees may contact LCDR Vic Lopez at 703 696-1386 x540, or e-mail at victor.lopez@osd.mil.

Dated: August 18, 2006.
L.M. Bynum,
DSD Federal Register Liaison Officer, DoD.

[FR Doc. 06-7183 Filed 8-25-06; 8:45 am]

BILLING CODE 5001-06-M